DEPARTMENT OF TRANSPORTATION

Federal Motor Carrier Safety Administration

[Docket No. FMCSA-2006-26367]

Motor Carrier Safety Advisory Committee (MCSAC); Notice of Public Meeting

AGENCY: Federal Motor Carrier Safety Administration (FMCSA), Department of Transportation.

ACTION: Notice of public meeting.

SUMMARY: FMCSA announces a meeting of MCSAC, which will take place via videoconference.

DATES: The meeting will be held Tuesday and Wednesday, June 6-7, 2023, from 9:30 a.m. to 4:30 p.m., Eastern Time. Requests for accommodations because of a disability must be received by Wednesday, May 31. Requests to register and/or to submit written materials to be reviewed during the meeting must be received no later than Wednesday, May 31.

ADDRESSES: The meeting will be held via videoconference. Those members of the public who would like to participate should go to https://www.fmcsa.dot.gov/advisory-committees/mcsac/meetings to access the meeting, task statements, a detailed agenda for the entire meeting, meeting minutes and additional information on MCSAC and its activities.

FOR FURTHER INFORMATION CONTACT: Shannon L. Watson, Senior Advisor to the Associate Administrator for Policy, Federal Motor Carrier Safety Administration, U.S. Department of Transportation, 1200 New Jersey Avenue SE, Washington, DC 20590, (202) 360-2925, mcsac@dot.gov. Any MSCAC-related request or submission should be sent via email to the person listed in this section.

Information may also be submitted by docket through Docket Number FMCSA-2006-26367 using any of the following methods:

• Federal eRulemaking Portal: Go to http://www.regulations.gov. Follow the online instructions for submitting comments.

• Fax: 202-493-2251.

• Mail: Docket Operations; U.S. Department of Transportation, 1200 New Jersey Avenue SE, Room W12-140, Washington, DC 20590.

• Hand Delivery: Docket Operations, U.S. Department of Transportation, 1200 New Jersey Avenue SE, West Building, Room W12-140, Washington, DC, between 9 a.m. and 5 p.m., E.T. Monday through Friday, except Federal holidays. To be sure someone is there to help you, please call (202) 366-9317 or (202) 366-9826 before visiting Docket Operations.

SUPPLEMENTARY INFORMATION:

I. Background

Purpose of the Committee

MCSAC was established to provide FMCSA with advice and recommendations on motor carrier safety programs and motor carrier safety regulations. MCSAC is composed of up to 25 voting representatives from the motor carrier safety advocacy, safety enforcement, labor, and industry sectors. The diversity of MCSAC ensures the requisite range of views and expertise necessary to discharge its responsibilities. MCSAC operates as a statutory committee under the authority of the U.S. Department of Transportation (DOT), established in accordance with the provisions of the Federal Advisory Committee Act (FACA), as amended (5 U.S.C. app. 2).

Meeting Agenda

The Agenda for the meeting will consist of:

• A briefing by the NHTSA and FMCSA concerning the most recent traffic safety data in general, and the commercial motor vehicle crash (CMV) data.

• A briefing on FMCSA's Large Truck Crash Causal Factors study plan and objectives.

• A briefing on the National Roadway Safety Strategy, including the 2023 update released in February followed by a new task, Task 23-1, relating to the identification of opportunities for FMCSA to collaborate with stakeholders to gain their commitment for additional actions to improve CMV safety.

• A briefing on the DOT's Strategic Plan and FMCSA's current strategic plan, followed by a new task, Task 23-2, regarding FMCSA's efforts to prepare a new strategic plan for FY 2024-FY 2027.

II. Meeting Participation

Advance registration is required. Please register at www.fmcsa.dot.gov/mcsac by the deadline referenced in the DATES section. The meeting will be open to the public for its entirety. The U.S. Department of Transportation is committed to providing equal access to this meeting for all participants. If you need alternative formats or services because of a disability, such as sign language, interpretation, or other ancillary aids, please contact the person listed in the FOR FURTHER INFORMATION CONTACT section.

Oral comments from the public will be heard during the public comment period only at the discretion of the MCSAC chair and designated federal officer. FMCSA asks individuals from the public to limit their comments to one minute on the issues under consideration only. Members of the public may submit written comments to the person listed in the FOR FURTHER INFORMATION CONTACT section on the topics to be considered during the meeting by the deadline referenced in the DATES section.

Larry W. Minor,
Associate Administrator for Policy.

[FR Doc. 2023-10641 Filed 5-17-23; 8:45 am]

BILLING CODE 4910-EX-P